DEPARTMENT OF HEALTH AND HUMAN SERVICES

National Institutes of Health

Center for Scientific Review; Amended Notice of Meeting

Notice is hereby given of a change in the meeting of the Center for Scientific Review Special Emphasis Panel, December 15, 2003, 1 p.m. to December 15, 2003, 2:30 p.m., National Institutes of Health, 6701 Rockledge Drive, Bethesda, MD 20892 which was published in the Federal Register on December 3, 2003, 68 FR 67689-67690.

The meeting will be held December 22, 2003, from 11 a.m. to 12:30 p.m. The location remains the same. The meeting is closed to the public.

Dated: December 16, 2003.
LaVerne Y. Stringfield,
Director, Office of Federal Advisory Committee Policy.

[FR Doc. 03-31499 Filed 12-22-03; 8:45 am]

BILLING CODE 4140-01-M